DEPARTMENT OF THE INTERIOR

Bureau of Land Management

[LLCO9230000-L14300000-FQ0000; COC-28247]

Public Land Order No. 7812; Partial Revocation of a Secretarial Order Dated April 27, 1905; CO

AGENCY: Bureau of Land Management, Interior.

ACTION: Public Land Order.

SUMMARY: This order partially revokes a withdrawal created by a Secretarial Order insofar as it affects 35.89 acres of public land withdrawn on behalf of the Bureau of Reclamation for the Gore Canyon Reservoir, Colorado River Storage Project.

DATES: Effective Date: April 15, 2013.

FOR FURTHER INFORMATION CONTACT: John D. Beck, BLM Colorado State Office, 2850 Youngfield Street, Lakewood, Colorado 80215-7093, 303-239-3882. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The Bureau of Reclamation has determined that a portion of the withdrawal created by a Secretarial Order dated April 27, 1905, for the Gore Canyon Reservoir, Colorado River Storage Project, is no longer needed for the purpose for which the land was withdrawn and has requested this partial revocation. The land will remain closed to settlement, sale, location, or entry under the general land laws, including the United States mining laws, by Public Land Order No. 7466 (65 FR 61182 (2000)). The lands have been and will remain open to mineral leasing.

Order

By virtue of the authority vested in the Secretary of the Interior by Section 204 of the Federal Land Policy and Management Act of 1976, 43 U.S.C. 1714, it is ordered as follows:

The withdrawal created by a Secretarial Order dated April 27, 1905, which withdrew public lands from all forms of appropriation under the public land laws, including the United States mining laws, and reserved them for use by the Bureau of Reclamation for the Gore Canyon Reservoir, Colorado River Storage Project, is hereby partially revoked insofar as it affects the following described land:

Sixth Principal Meridian

T. 1 N., R. 81 W.,

Sec. 27, lot 1.

The area described contains 35.89 acres, more or less, in Grand County.

Dated: March 27, 2013.
Rhea S. Suh,
Assistant Secretary—Policy, Management and Budget.

[FR Doc. 2013-08775 Filed 4-12-13; 8:45 am]

BILLING CODE 4310-JB-P